FEDERAL COMMUNICATIONS COMMISSION

47 CFR Parts 54 and 64

[WC Docket No. 10-90, 14-58, 07-135 and CC Docket No. 01-92; Report No. 3091]

Petitions for Reconsideration of Action in Rulemaking Proceeding

Correction

In proposed rule document 2018-12786, appearing on pages 27746-27747 in the Issue of Thursday, June 14, 2018, make the following correction:

On page 27746, in the third column, under the heading “DATES:” the entry “June 25, 2018” is corrected to read “July 9, 2018”.

[FR Doc. C1-2018-12786 Filed 6-26-18; 8:45 am]

BILLING CODE 1301-00-D